SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: August 1, 2012, through August 31, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f):

1. Carrizo (Marcellus), LLC, Pad ID: Wetterling Well #1, ABR-201208001, Owego Town, Tioga County, NY; Consumptive Use of Up to 2.100 mgd; Approval Date: August 3, 2012.

2. Chesapeake Appalachia, LLC, Pad ID: Lorraine, ABR-201208002, Tuscarora Township, Bradford County, Pa.; Consumptive Use of Up to 7.500 mgd; Approval Date: August 6, 2012.

3. Chesapeake Appalachia, LLC, Pad ID: Nina, ABR-201208003, Asylum Township, Bradford County, Pa.; Consumptive Use of Up to 7.500 mgd; Approval Date: August 6, 2012.

4. Chesapeake Appalachia, LLC, Pad ID: Stethers, ABR-201208004, Wyalusing Township, Bradford County, Pa.; Consumptive Use of Up to 7.500 mgd; Approval Date: August 6, 2012.

5. Chesapeake Appalachia, LLC, Pad ID: Harlan, ABR-201208005, Overton Township, Bradford County, Pa.; Consumptive Use of Up to 7.500 mgd; Approval Date: August 6, 2012.

6. Chesapeake Appalachia, LLC, Pad ID: Whitney, ABR-201208006, Rush Township, Susquehanna County, Pa.; Consumptive Use of Up to 7.500 mgd; Approval Date: August 6, 2012.

7. Anadarko E&P Company LP, Pad ID: Salt Run HC Pad A, ABR-201208007, Cascade Township, Lycoming County, Pa.; Consumptive Use of Up to 4.000 mgd; Approval Date: August 10, 2012.

8. Anadarko E&P Company LP, Pad ID: Kenneth L Martin Pad A, ABR-201208008, Cogan House Township, Lycoming County, Pa.; Consumptive Use of Up to 4.000 mgd; Approval Date: August 10, 2012.

9. Anadarko E&P Company LP, Pad ID: Ann C Good Pad A, ABR-201208009, Cogan House Township, Lycoming County, Pa.; Consumptive Use of Up to 4.000 mgd; Approval Date: August 10, 2012.

10. Anadarko E&P Company LP, Pad ID: Red Fox H&FC Pad B, ABR-201208010, Cogan House Township, Lycoming County, Pa.; Consumptive Use of Up to 4.000 mgd; Approval Date: August 10, 2012.

11. Energy Corporation of America, Pad ID: COP 324 A, ABR-201208011, Girard Township, Clearfield County, Pa.; Consumptive Use of Up to 5.000 mgd; Approval Date: August 10, 2012.

12. Chesapeake Appalachia, LLC, Pad ID: BKT, ABR-201208012, Wilmot Township, Bradford County, Pa.; Consumptive Use of Up to 7.500 mgd; Approval Date: August 10, 2012.

13. Chesapeake Appalachia, LLC, Pad ID: Ronmary, ABR-201208013, Elkland Township, Sullivan County, Pa.; Consumptive Use of Up to 7.500 mgd; Approval Date: August 10, 2012.

14. XTO Energy Incorporated, Pad ID: PA Tract K, ABR-201208014, Chapman Township, Clinton County, Pa.; Consumptive Use of Up to 4.500 mgd; Approval Date: August 24, 2012.

15. Range Resources-Appalachia, LLC, Pad ID: McWilliams Unit #6H—#10H Well Pad, ABR-201208015, Cogan House Township, Lycoming County, Pa.; Consumptive Use of Up to 5.000 mgd; Approval Date: August 24, 2012.

16. WPX Energy Appalachia, LLC, Pad ID: Keenan East Well Pad, ABR-201208016, Choconut Township, Susquehanna County, Pa.; Consumptive Use of Up to 4.000 mgd; Approval Date: August 28, 2012.

17. WPX Energy Appalachia, LLC, Pad ID: Malling Well Pad, ABR-201208017, Silver Lake Township, Susquehanna County, Pa.; Consumptive Use of Up to 4.000 mgd; Approval Date: August 28, 2012.

18. Range Resources-Appalachia, LLC, Pad ID: Null—Bobst Unit #1H, ABR-201208018, Cogan House Township, Lycoming County, Pa.; Consumptive Use of Up to 5.000 mgd; Approval Date: August 28, 2012.

19. Carrizo (Marcellus), LLC, Pad ID: Ricci Well Pad, ABR-201208019, Bridgewater Township, Susquehanna County, Pa.; Consumptive Use of Up to 2.100 mgd; Approval Date: August 28, 2012.

20. Chesapeake Appalachia, LLC, Pad ID: Tufano, ABR-201208020, Overton Township, Bradford County, Pa.; Consumptive Use of Up to 7.500 mgd; Approval Date: August 28, 2012.

21. Chesapeake Appalachia, LLC, Pad ID: Borek, ABR-201208021, Auburn Township, Susquehanna County, Pa.; Consumptive Use of Up to 7.500 mgd; Approval Date: August 28, 2012.

22. Cabot Oil & Gas Corporation, Pad ID: SalanskyT P1, ABR-201208022, Gibson Township, Susquehanna County, Pa.; Consumptive Use of Up to 3.575 mgd; Approval Date: August 28, 2012.

23. Talisman Energy USA Inc., Pad ID: 05 258 Kuhlman M, ABR-201208023, Windham Township, Bradford County, Pa.; Consumptive Use of Up to 6.000 mgd; Approval Date: August 28, 2012.

24. Chief Oil & Gas LLC, Pad ID: Tague East Drilling Pad, ABR-201208024, Lemon Township, Wyoming County, Pa.; Consumptive Use of Up to 2.000 mgd; Approval Date: August 31, 2012.

Authority: Pub. L. 91-575, 84 Stat. 1509 et seq., 18 CFR parts 806, 807, and 808.

Dated: September 14, 2012.
Stephanie L. Richardson,
Secretary to the Commission.

[FR Doc. 2012-23660 Filed 9-25-12; 8:45 am]

BILLING CODE 7040-01-P